DEPARTMENT OF TRANSPORTATION

Pipeline and Hazardous Materials Safety Administration

Pipeline Safety: Notice to Operators of Natural Gas and Hazardous Liquid Pipelines To Integrate Operator Qualification Regulations into Excavation Activities

AGENCY: Pipeline and Hazardous Materials Safety Administration (PHMSA), DOT.

ACTION: Notice; issuance of Advisory Bulletin.

SUMMARY: PHMSA is issuing this advisory bulletin to pipeline operators to reinforce the need for safe excavation practices and recommend that pipeline operators integrate the Operator Qualification regulations into their marking, trenching, and backfilling operations to prevent excavation damage mishaps.

ADDRESSES: This document can be viewed on the PHMSA home page at: http://www.phmsa.dot.gov.

FOR FURTHER INFORMATION CONTACT: Joy Kadnar, (202) 366-0568, or by e-mail at Joy.Kadnar@dot.gov.

SUPPLEMENTARY INFORMATION:

I. Background

In the past few years PHMSA has seen recurring similarities in pipeline incidents involving excavation. In November 2005, a pipeline company contractor struck a 2-inch tap off an 18-inch natural gas transmission pipeline that was operating at more than 800 pounds per square inch gauge (psig). In October 2005, near an elementary school in Chantilly, Virginia, pipeline operator personnel struck the pipeline while excavating it in a Class 3 populated area. This incident resulted in the evacuation of more than 850 school children and area residents. In June 2005, a pipeline company contractor knocked a 2-inch pipe nipple off a 30-inch natural gas transmission pipeline while uncovering it. The pipeline was operating at more than 800 psig. In January 2005, contractor personnel being supervised by a pipeline operator struck a six-inch valve on a hazardous liquid pipeline while modifying it in preparation for an inline inspection. This accident resulted in a release of about 700 barrels of crude oil. In November 2004, a serious hazardous liquid pipeline accident in Walnut Creek, California, resulted in five deaths and several injuries. This accident was caused by a contractor installing a water main in the vicinity of a hazardous liquid pipeline. PHMSA is also aware of several incidents that occurred in the last three years on pipeline facilities owned by local distribution companies where pipelines have been struck near schools and locations where people congregate.

Investigations by PHMSA and its State partners revealed that the pipeline operators involved in these incidents did not comply with Federal pipeline safety regulations or their own operator qualifications programs. Investigations found similar problems, such as:

• Pipeline operators did not follow their own construction, ditching, and backfilling specifications for existing pipelines, such as machine excavation, which is prohibited within two feet of existing pipelines;

• Construction inspectors working for pipeline operators failed to assist their own employees, their own contractors, and third-party construction contractors in verifying the staked locations of the existing pipeline facilities; and,

• Pipeline “as-built” drawings were not verified and made available to the excavators at construction sites before or during excavation activity.

From these investigations PHMSA also determined that, in many cases, pipeline operators did not correctly mark all pipelines in the vicinity of the construction and did not confirm whether all individuals performing the covered tasks were qualified. In one instance, the spotter assigned to the task at the excavation site did not have the necessary qualifications for observing excavation and backfilling tasks. In another instance, the pipeline operator did not follow its own maintenance manual that requires the company representative to review the location of the pipeline prior to excavation. The pipeline company representative did not verify that the location of the pipeline was correctly marked.

II. Advisory Bulletin (ADB-06-01)

To: Owners and Operators of Natural Gas and Hazardous Liquid Pipeline Systems

Subject: Notification on Safe Excavation Practices and the use of Qualified Personnel to oversee all Excavations and Backfilling Operations

Advisory: Excavation damage continues to be one of the three leading causes of pipeline damage. PHMSA has seen an increase in pipeline operators damaging their own pipeline facilities. To protect excavators and private citizens from injury and to guard the integrity of buried pipelines and other underground facilities, PHMSA reminds operators to ensure all procedures and processes to perform excavation and backfilling are followed. Only qualified personnel must oversee all marking, trenching, and backfilling operations.

Furthermore, PHMSA reminds pipeline operators that although excavation is not explicitly addressed in 49 CFR parts 192 and 195, excavation is considered a covered task under the pipeline operator qualifications regulations (49 CFR 192.801-809 and 195.501-509). These regulations require that pipeline operators and contractors be qualified to perform pipeline excavation activities. A qualified individual is one who has been evaluated and can perform assigned covered tasks and can recognize and react appropriately to abnormal conditions.

In particular, PHMSA recommends pipeline operators review the adequacy of covered tasks involving line locating, one-call notifications, and inspection of excavation activities. Operators should also review the adequacy of required training, evaluation and qualification methods for each of these covered tasks to ensure that each employee and contractor is qualified to perform that task.

Authority: 49 U.S.C. Chapter 601; 49 CFR 1.53.

Issued in Washington, DC, on January 10, 2005.
Theodore L. Willke,
Deputy Associate Administrator for Pipeline Safety.

[FR Doc. 06-387 Filed 1-13-06; 8:45 am]

BILLING CODE 4910-60-P _Continued